NATIONAL AERONAUTICS AND SPACE ADMINISTRATION

Notice of Information Collection Under OMB Review

[Notice: 03-150]

AGENCY: National Aeronautics and Space Administration (NASA).

ACTION: Notice of information collection under OMB review.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 30 calendar days from the date of this publication.

ADDRESSES: All comments should be addressed to Desk Officer for NASA; Office of Information and Regulatory Affairs; Office of Management and Budget; Room 10236; New Executive Office Building; Washington, DC, 20503.

FOR FURTHER INFORMATION CONTACT: Ms. Nancy Kaplan, NASA Reports Officer, (202) 358-1372.

Title: Financial Monitoring and Control—Grants and Cooperative Agreements.

OMB Number: 2700-0049.

Type of review: Extension of a currently approved collection.

Need and Uses: The information collected is required to ensure the proper accounting of Federal funds provided under grants and cooperative agreements with institutions of higher education and other non-profit organizations.

Affected Public: Not-for-profit institutions.

Number of Respondents: 1,172.

Responses Per Respondent: varies.

Annual Responses: 47,710.

Hours Per Request: varies.

Annual Burden Hours: 291,326.

Frequency of Report: As needed.

Dated: November 24, 2003.
Patricia L. Dunnington,
Chief Information Officer, Office of the Administrator.

[FR Doc. 03-29991 Filed 12-1-03; 8:45 am]

BILLING CODE 7510-01-P